DEPARTMENT OF HEALTH AND HUMAN SERVICES

National Toxicology Program (NTP); Center for the Evaluation of Risks to Human Reproduction (CERHR); Availability of the Draft Expert Panel Report on Hydroxyurea and Request for Public Comment on the Draft Report; Announcement of the Hydroxyurea Expert Panel Meeting—Correction to Expert Panel Roster

AGENCY: National Institute for Environmental Health Sciences; National Institutes of Health, HHS.

ACTION: Correction of Hydroxyurea Expert Panel Roster.

SUMMARY: Please be advised that the Hydroxyurea Expert Panel Roster as published in the Federal Register (Vol. 71, No. 199, pp. 60746-60748) on October 16, 2006 should include Francesco Marchetti, Ph.D., Lawrence Berkeley National Laboratory, Berkeley, CA. Marvin Meistrich, Ph.D. was listed as a panel member, but is not a member of the panel.

FOR FURTHER INFORMATION CONTACT: Dr. Michael D. Shelby, CERHR Director, 919-541-3455, shelby@niehs.nih.gov.

Dated: October 17, 2006.
Samuel H. Wilson,
Deputy Director, National Institute of Environmental Health Sciences and National Toxicology Program.

[FR Doc. E6-17887 Filed 10-24-06; 8:45 am]

BILLING CODE 4140-01-P